ENVIRONMENTAL PROTECTION AGENCY

[FRL-10017-53-OA]

Meetings of the Local Government Advisory Committee (LGAC) and the Small Communities Advisory Subcommittee (SCAS)

AGENCY: Environmental Protection Agency (EPA).

ACTION: Notice.

SUMMARY: The Local Government Advisory Committee (LGAC) and the Small Communities Advisory Subcommittee (SCAS) will conduct a virtual meeting. Due to unforeseen circumstances with scheduling key officials, EPA is announcing this meeting with less than 15 calendar days' notice. Notice has previously been posted to EPA's website.

DATES: The virtual meeting will be held on Wednesday, December 9, 2020 from 2:30-6:00 p.m. EDT.

ADDRESSES: The meetings will be held virtually through an online audio and video platform. Members of the public who wish to participate should register through the LGAC website at https://www.epa.gov/ocir/local-government-advisory-committee-lgac or by contacting the Designated Federal Officer (DFO) at the number or email below. The agenda and other meeting materials, including the meeting summaries, will be available online at https://www.epa.gov/ocir/local-government-advisory-committee-lgac and can be obtained by written request to the DFO. In the event of cancellation for unforeseen circumstances, please contact the DFO or check the website above for reschedule information.

FOR FURTHER INFORMATION CONTACT: LGAC and SCAS contact is Victoria Ludwig, Acting Designated Federal Officer, at (202) 343-9291, (202) 564-3115, or email at ludwig.victoria@epa.gov.

Information on Accessibility: For information on access or services for individuals requiring accessibility accommodations, please contact Victoria Ludwig at (202) 343-9291, (202) 564-3115, or email at ludwig.victoria@epa.gov. To request accommodation, please do so five (5) business days prior to the meeting, to give EPA as much time as possible to process your request.

SUPPLEMENTARY INFORMATION: The focus of the Committee and Subcommittee meetings will be to: (1) Deliberate and vote on recommendations from the LGAC and SCAS to EPA on ethylene oxide risk communication, EPA Office of Air and Radiation's 2022-2023 National Program Guidances, 2020 Financial Capability Assessment for the Clean Water Act, food waste management, and community-based approaches to environmental protection; (2) determine the Committee's and Subcommittee's agendas and priorities for 2021; and (3) discuss administrative matters. These are open meetings, and all interested persons are invited to participate. The LGAC and SCAS will hear comments from the public from 4:25-4:40 p.m. (EDT). Individuals or organizations wishing to address the Committee or Subcommittee will be allowed a maximum of five (5) minutes to present their point of view. Also, written comments should be submitted electronically to ludwig.victoria@epa.gov for the LGAC and SCAS. Please contact the DFO at the numbers or email listed in FOR FURTHER INFORMATION CONTACT to schedule a time on the agenda. Time will be allotted on a first-come first-served basis, and the total period for comments may be extended if the number of requests for appearances requires it.

Dated: December 1, 2020.
Julian E. Bowles,
Director, State and Local Relations, EPA's Office of Congressional and Intergovernmental Relations.

[FR Doc. 2020-26800 Filed 12-4-20; 8:45 am]

BILLING CODE 6560-50-P